DEPARTMENT OF DEFENSE

Office of the Secretary

[Docket ID DoD-2013-OS-0185]

Submission for OMB Review; Comment Request; Withdrawal

ACTION: Notice; withdrawal.

SUMMARY: On Thursday, August 29, 2013 (78 FR 53428-53429), the Department of Defense published a notice titled Submission for OMB Review; Comment Request. Subsequent to the publication of the notice in the Federal Register, DoD discovered that the notice should not have published in the Federal Register. This notice withdraws the previous submission that published on Thursday, August 29, 2013.

DATES: This notice is effective on September 4, 2013.

FOR FURTHER INFORMATION CONTACT: Fred Licari, 571-372-0493.

Dated: August 29, 2013.
Aaron Siegel,
Alternate OSD Federal Register Liaison Officer, Department of Defense.

[FR Doc. 2013-21475 Filed 9-3-13; 8:45 am]

BILLING CODE 5001-06-P